DEPARTMENT OF THE INTERIOR

Bureau of Land Management

[L51010000.FX0000 LVRWB10B4040 LLCAC05000]

Notice of Intent To Prepare an Environmental Impact Statement for the Walker Ridge Wind Project, Lake and Colusa Counties, CA

Agency: Bureau of Land Management, Interior.

ACTION: Notice of Intent.

SUMMARY: In compliance with the National Environmental Policy Act of 1969, as amended (NEPA), and the Federal Land Policy and Management Act of 1976, as amended, the Bureau of Land Management (BLM) Ukiah Field Office, Ukiah, California, intends to prepare an Environmental Impact Statement (EIS) and by this notice is announcing the beginning of the scoping process to solicit public comments and identify issues.

DATES: This notice initiates the public scoping process for the EIS. Comments on issues may be submitted in writing until September 13, 2010. The date(s) and location(s) of any scoping meetings will be announced at least 15 days in advance through local media, newspapers, and the BLM Web site at: http://www.blm.gov/ca/st/en/fo/ukiah.html. In order to be considered in the Draft EIS, all comments must be received prior to the close of the scoping period or 15 days after the last public meeting, whichever is later. We will provide additional opportunities for public participation upon publication of the Draft EIS.

ADDRESSES: You may submit comments related to the Walker Ridge Wind Project by any of the following methods:

• Web site: http://www.blm.gov/ca/st/en/fo/ukiah.html.

• E-mail: ukiahwindeis@ca.blm.gov.

• Fax: (707) 468-4027.

• Mail: BLM Ukiah Field Office, Attention: Rich Burns, 2550 North State Street, Ukiah, California 95482.

Documents pertinent to this proposal may be examined at the Ukiah Field Office.

FOR FURTHER INFORMATION CONTACT: For further information and/or to have your name added to our mailing list, contact Bethney Lefebvre, telephone (707) 468-4000; address Ukiah Field Office, 2550 North State Street, Ukiah, California 95482; e-mail: ukiahwindeis@ca.blm.gov.

SUPPLEMENTARY INFORMATION: The applicant, AltaGas Renewable Energy Pacific, Inc., has requested a right-of-way (ROW) to construct and operate a 67 megawatt (MW) wind energy project with an interconnection to the Pacific Gas and Electric 115-kilovolt (kV) distribution system. The proposed action would include up to 42 wind turbine generators, an underground electrical collection system, a substation, a 115-kV overhead transmission line, an interconnect station, an operations and maintenance building, access roads, and a temporary laydown area. The EIS will analyze the site-specific impacts to the environment from the project if the ROW is granted.

The project would be built on about 500 acres within the 8,157.35 acre ROW on Federal land under the jurisdiction of the BLM within the Ukiah Field Office area.

The purpose of the public scoping process is to determine relevant issues that will influence the scope of the environmental analysis, including alternatives, and guide the process for developing the EIS. At present, the BLM has identified the following preliminary issues: Social and economic impacts, including impacts to the public from traffic; ground and surface water quantity and quality impacts; plant and animal species impacts, including impacts to special status species; cultural resources impacts; visual resource impacts; and impacts to lands with wilderness characteristics.

The BLM will use and coordinate the NEPA commenting process to satisfy the public involvement process for Section 106 of the National Historic Preservation Act (16 U.S.C. 470f) as provided for in 36 CFR 800.2(d)(3). Native American Tribal consultations will be conducted, and Tribal concerns, including impacts on Indian trust assets, will be given due consideration. Federal, state, and local agencies, along with other stakeholders that may be interested or affected by the BLM's decision on this project, are invited to participate in the scoping process. If eligible, the agencies may request or be requested by the BLM to participate as a cooperating agency.

Before including your address, phone number, e-mail address, or other personal identifying information in your comment, you should be aware that your entire comment—including your personal identifying information—may be made publicly available at any time. While you can ask us in your comment to withhold your personal identifying information from public review, we cannot guarantee that we will be able to do so.

Authority: 40 CFR 1501.7.

Thomas Pogacnik,
Deputy State Director, Natural Resources.

[FR Doc. 2010-19958 Filed 8-12-10; 8:45 am]

BILLING CODE 4310-40-P